DEPARTMENT OF ENERGY

[GDO Docket No. EA-388-B]

Application for Renewal of Authorization To Export Electric Energy; TEC Energy Inc.

AGENCY: Grid Deployment Office, Department of Energy.

ACTION: Notice of application.

SUMMARY: TEC Energy Inc. (the Applicant or TEC) has applied for renewed authorization to transmit electric energy from the United States to Canada pursuant to the Federal Power Act.

DATES: Comments, protests, or motions to intervene must be submitted on or before December 15, 2023.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On December 19, 2013, DOE issued Order No. EA-388, authorizing TEC to transmit electric energy from the United States to Canada as a power marketer for a five-year term. This authority was renewed on December 19, 2018 (Order No. EA-388-A). On September 21, 2023, TEC filed an application with DOE (Application or App.) for renewal of its export authority for an additional five-year term. App. at 1.

In its Application, TEC states that it “does not own or control any electric generation or transmission facilities, nor is it affiliated with any entity that does.” App. at 2. TEC represents that the electricity it “will export, on either a firm or interruptible basis, will be purchased from a variety of sources voluntarily, such as wholesale generators, electric utilities and federal power marketing agencies.” Id. at 3. TEC represents that “[b]y definition, such power is surplus to the system of the selling generator and, therefore, the electric power that TEC will export on either a firm or interruptible basis will not impair or tend to impede the sufficiency of the electric power supply within the U.S. or the regional coordination of electric utility planning or operations.” Id.

The existing international transmission facilities to be utilized by the Applicant have been previously authorized by Presidential permits issued pursuant to Executive Order 10485, as amended, and are appropriate for open access transmission by third parties. See id. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning TEC's Application should be clearly marked with GDO Docket No. EA-388-B. Additional copies are to be provided directly to Etienne Lapointe, Chief Executive Officer, TEC Energy Inc., 5455 Av Gaspe, Suite 420, Montreal Quebec, H2T 3B3 Canada, elapointe@tecenergy.ca.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on November 8, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 9, 2023.
Treena V. Garrett,
Federal Register Liaison Officer, U.S. Department of Energy.

[FR Doc. 2023-25187 Filed 11-14-23; 8:45 am]

BILLING CODE 6450-01-P